DEPARTMENT OF THE TREASURY

Submission for OMB Review; Comment Request

August 24, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before September 30, 2005 to be assured of consideration.

Internal Revenue Service (IRS)

OMB Number: 1545-0091.

Form Number: IRS Form 1040X.

Type of Review: Extension.

Title: Amended U.S. Individual Income Tax Return.

Description: Form 1040X is used by individuals to amend an original tax return to claim a refund of income taxes, pay additional income taxes, or designate $3.00 to the Presidential Election Campaign Fund. The information is needed to help verify that the individual has correctly figured his or her income tax.

Respondents: Business and other for-profit, Individuals or households and Farms.

Estimated Total Burden Hours: 10,340,468 hours.

OMB Number: 1545-0714.

Form Number: IRS Form 8027 and 8027T.

Type of Review: Extension.

Title: Employers Annual Information Return of Tip Income and Allocated Tips (Form 8027); Transmittal of Employer's Annual Information Return to Tip Income and Allocated Tips (Form 8027-T).

Description: To help IRS in its examinations of returns filed by tipped employees, large food or beverage establishments are required to report annually information concerning food or beverage operations receipts, tips, reported by employees, and in certain cases, the employer must allocate tips to certain employees.

Respondents: Individuals or Households, Business or other-for-profit, Not-for-profit institutions and State, Local or Tribal.

Estimated Total Burden Hours: 488,161 hours.

OMB Number: 1545-0939.

Form Number: IRS Form 8404.

Type of Review: Extension.

Title: Interest Charge on DISC-Related Deferred Tax Liability.

Description: Shareholders of Interest Charge Domestic International Sales Corporations (IC-DISCs) use Form 8404 to figure and report an interest charge on their DISC-related deferred tax liability. The interest charge is required by Internal Revenue Code Section 995(f). IRS uses Form 8404 to determine whether the shareholder has correctly figured and paid the interest charge on a timely basis.

Respondents: Business or other for profit and Individuals or households.

Estimated Total Burden Hours: 17,600 hours.

OMB Number: 1545-1073.

Form Number: IRS Form 8801.

Type of Review: Extension.

Title: Credit for Prior Year Minimum Tax-Individuals, Estates and Trusts.

Description: Form 8801 is used by individuals, estates, and trusts to compute the minimum tax credit, if any, available from a tax year beginning after 1986 to be used in the current year or to be carried forward for use in a future year.

Respondents: Individuals or households.

Estimated Total Burden Hours: 258,036 hours.

OMB Number: 1545-1632.

Type of Review: Extension.

Title: Reg-118662-98 (Final) New Technologies in Retirement Plans.

Description: These regulations provide that certain notices and consents required in connection with distributions from retirement plans may be transmitted through electronic media. The regulations also modify the timing requirements for provision of certain distribution related notices.

Respondents: Individuals or households, Business or other for-profit, Not-for-profit institutions and State, Local or Tribal Government.

Estimated Total Burden Hours: 477,563 hours.

OMB Number: 1545-1675.

Type of Review: Extension.

Title: REG-122450-98(Final) Real Estate Mortgage Investment Conduits; REG-100276-97; REG-122450-98 (NPRM) Financial Asset Securitization Investment Trusts; Real Estate Mortgage Investment Conduits.

Description: REG-122450-98 Sections 1.860E-1(C)(4)-(10) of the Treasury Regulations provide circumstances under which a transferor of a noneconomic residual interest in a Real Estate Mortgage Investment Conduit (REMIC) meeting the investigation and two representation requirements may avail itself of the safe harbor by satisfying either the formula test or asset test. REG-100276-97; REG-122450-98. This regulation provides start-up and transitional rules applicable to financial asset securitization investment trust.

Respondents: Business or other-for-profit.

Estimated Total Burden Hours: 1,220 hours.

OMB Number: 1545-1796.

Type of Review: Extension.

Title: REG-106879-00 (Final) Consolidated Loss Recapture Events.

Description: This document contains final regulations under section 1503(d) regarding the events that require the recapture of dual consolidated losses. These regulations are issued to facilitate compliance by taxpayers with the dual consolidated loss provisions. The regulations generally provide that certain events will not trigger recapture of a dual consolidated loss or payment of the associated interest charge. The regulations provide for the filing of certain agreements in such cases. This document also makes clarifying and conforming changes to the current regulations.

Respondents: Business or other-for-profit.

Estimated Total Burden Hours: 60 hours.

Clearance Officer: Glenn P. Kirkland, (202) 622-3428. Internal Revenue Service, Room 6516, 1111 Constitution Avenue, NW., Washington, DC 20224.

OMB Reviewer: Alexander T. Hunt, (202) 395-7316. Office of Management and Budget, Room 10235, New Executive Office Building, Washington, DC 20503.

Michael A. Robinson,
Treasury PRA Clearance Officer.

[FR Doc. 05-17258 Filed 8-30-05; 8:45 am]

BILLING CODE 4830-01-P